ELECTION ASSISTANCE COMMISSION

Sunshine Act Notice

AGENCY: United States Election Assistance Commission.

ACTION: Notice of public meeting agenda.

Date and Time: Tuesday, April 26, 2005, 10 a.m.-11:30 a.m.

Place: Massachusetts Institute of Technology (MIT), Bartos Theater, 20 Ames Street (lower level), Cambridge, MA 02142-1308. (Massachusetts Bay Transit Station Stop: Kendall Square)

Agenda: The Commission will receive reports on the following: Title II Requirements Payments Update and Other Administrative Matters. The Commission will receive presentations on the following: Technical Guidelines Development Committee (TGDC) Recommendations and Guidelines Adoption Process.

FOR FURTHER INFORMATION CONTACT: Bryan Whitener, Telephone: (202) 566-3100.

Ray Martinez III,
Commissioner, U.S. Election Assistance Commission.

[FR Doc. 05-6989 Filed 4-4-05; 3:57 pm]

BILLING CODE 6820-YN-M